ENVIRONMENTAL PROTECTION AGENCY

[FRL-9700-8]

Proposed CERCLA Administrative Cost Recovery Settlement; City of Middletown, CT and RLO Properties, Inc., Omo Manufacturing Site, Middletown, CT

AGENCY: Environmental Protection Agency.

ACTION: Notice of proposed settlement; request for public comment.

SUMMARY: Notice is hereby given of a proposed administrative settlement for recovery of response costs under CERCLA, concerning the Omo Manufacturing Superfund Site in Middletown, Connecticut with the following settling parties: City of Middletown, Connecticut and RLO Properties, Inc. The settlement requires: (1) The City of Middletown, Connecticut to pay $2,800,000 to the Hazardous Substance Superfund in five equal payments, with interest, over time; and (2) RLO Properties, Inc. to provide EPA and its representatives and contractors access at all reasonable times to the Site and to any other property owned or controlled by RLO Properties, Inc. to which access is determined by EPA to be required for the implementation of the settlement.

SUPPLEMENTARY INFORMATION: In accordance with Section 122(i) of the Comprehensive Environmental Response Compensation, and Liability Act, as amended (“CERCLA”), 42 U.S.C. Section 9622(i), notice is hereby given of a proposed administrative settlement for recovery of response costs under CERCLA Section 122(h)(1) and 104(e)(6), concerning the Omo Manufacturing Superfund Site in Middletown, Connecticut with the following settling parties: City of Middletown, Connecticut and RLO Properties, Inc. The settlement requires: (1) the City of Middletown, Connecticut to pay $2,800,000 to the Hazardous Substance Superfund in five equal payments, with interest, over time; and (2) RLO Properties, Inc. to provide EPA and its representatives and contractors access at all reasonable times to the Site and to any other property owned or controlled by RLO Properties, Inc. to which access is determined by EPA to be required for the implementation of the settlement. The settlement includes a covenant not to sue pursuant to Sections 106 and 107(a) of CERCLA, 42 U.S.C. 9606 and 9607, relating to the Site, and protection from contribution actions or claims as provided by Sections 113(f)(2) and 122(h)(4) of CERCLA, 42 U.S.C. 9613(f)(2) and 9622(h)(4). The settlement has been approved by the Environmental and Natural Resources Division of the United States Department of Justice. For thirty (30) days following the date of publication of this notice, the Agency will receive written comments relating to the settlement. The United States will consider all comments received and may modify or withdraw its consent to the settlement if comments received disclose facts or considerations which indicate that the settlement is inappropriate, improper, or inadequate. The Agency's response to any comments received will be available for public inspection at 5 Post Office Square, Boston, MA 02109-3912.

DATES: Comments must be submitted by August 17, 2012 of this notice.

ADDRESSES: Comments should be addressed to Cynthia Lewis, Senior Enforcement Counsel, U.S. Environmental Protection Agency, 5 Post Office Square, Suite 100 (OES04-3), Boston, MA 02109-3912 (Telephone No. 617-918-1889) and should refer to: In re: Omo Manufacturing Superfund Site, U.S. EPA Docket No. 01-2012-0040.

FOR FURTHER INFORMATION CONTACT: A copy of the proposed settlement may be obtained from Cynthia Lewis, Senior Enforcement Counsel, U.S. Environmental Protection Agency, 5 Post Office Square, Suite 100 (OES04-3), Boston, MA 02109-3912 (Telephone No. 617-918-1889); Email lewis.cindy@epa.gov).

Dated: June 26, 2012.
James T. Owens, III,
Director, Office of Site Remediation and Restoration, Region 1.

[FR Doc. 2012-17501 Filed 7-17-12; 8:45 am]

BILLING CODE 6560-50-P